DEPARTMENT OF HOMELAND SECURITY

[Docket No. DHS-2025-0024]

Homeland Security Advisory Council; Notice of Meeting

AGENCY: Office of Partnership and Engagement, Department of Homeland Security.

ACTION: Notice of meeting date change.

SUMMARY: Notice is given that the June 30, 2025 meeting that was published in the Federal Register on June 16, 2025, [Docket No. DHS-2025-0024; pages 25349-25350], will now be held on July 2, 2025.

DATES: The meeting will be held Wednesday, July 2, 2025, from 1 p.m. to 4 p.m. Eastern Daylight Time. Meeting Registration: Registration to attend the meeting is required and must be received via email no later than 5 p.m. Eastern Daylight Time on Monday, June 30, 2025. All other meeting details remain unchanged. This meeting will be held via live steam.

FOR FURTHER INFORMATION CONTACT: Alexander Jacobs, Alternate Designated Federal Officer, Homeland Security Advisory Council at (202) 269-2419 or HSAC@hq.dhs.gov.

DATED: June 23, 2025.
Alexander L. Jacobs,
Alternate Designated Federal Officer, Homeland Security Advisory Council, Department of Homeland Security.

[FR Doc. 2025-11757 Filed 6-25-25; 8:45 am]

BILLING CODE 9112-FN-P